DEPARTMENT OF EDUCATION

RIN 1865-ZA04

Safe Schools/Healthy Students Program

AGENCY: Office of Safe and Drug-Free Schools, Department of Education.

ACTION: Notice of final priorities, requirements, selection criteria, and definitions.

SUMMARY: The Assistant Deputy Secretary for Safe and Drug-Free Schools announces priorities, requirements, selection criteria, and definitions under the Safe Schools/Healthy Students program. The Assistant Deputy Secretary for Safe and Drug-Free Schools may use these priorities, requirements, selection criteria, and definitions for competitions in fiscal year (FY) 2007 and later years. We take this action to focus Federal financial assistance on safe, respectful, and drug-free learning environments and healthy childhood development, as well as to support the implementation and enhancement of integrated, comprehensive, community-wide plans designed to meet these goals.

EFFECTIVE DATE: These priorities, requirements, selection criteria, and definitions are effective June 11, 2007.

FOR FURTHER INFORMATION CONTACT: Karen Dorsey, U.S. Department of Education, 400 Maryland Avenue, SW., room 3E336, Washington, DC 20202-6200. Telephone: (202) 708-4674 or via e-mail: karen.dorsey@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The Safe Schools/Healthy Students (SS/HS) grant program draws on the best practices of the education, justice, social service, and mental health systems to provide a continuum of activities, curricula, programs and services designed to increase protective factors and reduce risk as an effective way to promote healthy child development and address the problems of school violence and alcohol and other drug abuse.

Key to the SS/HS grant program is creating and implementing a comprehensive plan that addresses specific needs, gaps, or weaknesses in services and builds on available resources and services. Creating and implementing the comprehensive plan allows an applicant to prevent youth drug use and violence, promote safe environments and prosocial skills, and provide for healthy child development.

The establishment in this notice of priorities, requirements, selection criteria, and definitions is designed to describe more clearly our vision for this important initiative and provide prospective applicants with additional insight into the program and its requirements.

We published a notice of proposed priorities, requirements, selection criteria, and definitions for this program in the Federal Register on February 27, 2007 (72 FR 8704).

Except for minor editorial and technical revisions, there are no differences between the notice of proposed priorities, requirements, selection criteria, and definitions and this notice of final priorities, requirements, selection criteria, and definitions.

Analysis of Comments and Changes

In response to our invitation in the notice of proposed priorities, requirements, selection criteria, and definitions, five parties submitted comments. An analysis of the comments follows.

Generally, we do not address technical and other minor changes or suggested changes we are not authorized to make under the applicable statutory authority.

Comment: One commenter recommended that community organizations be allowed to apply directly for an SS/HS grant. The commenter expressed concern that by limiting eligibility to local educational agencies (LEAs), the Department would exclude some communities from receiving much needed Federal resources. The commenter noted that while schools are interested in having an intervention implemented, that interest wanes when they discover that they have to be the entity applying for funding because they feel they are unable to commit the necessary time and resources to coordinate, manage, and implement a grant.

Discussion: The U.S. Departments of Education, Health and Human Services, and Justice initially designed the SS/HS initiative in response to direction from Congress. The conference committee report that accompanied the initial funding appropriated for SS/HS in FY 1999 instructed the Federal agencies to “promote safe learning environments for students” through competitive grants “to local educational agencies for developing community-wide approaches to creating safe and drug-free schools * * *” (House of Representatives Report 105-825, to accompany H.R. 4328, Making Omnibus Consolidated and Emergency Supplemental Appropriations for Fiscal Year 1999).

The SS/HS initiative recognizes the importance of community partners in creating a comprehensive, coordinated plan for meeting the initiative's very broad goals, as demonstrated by the requirement that every application include a partnership among a local school district, a local public mental health authority, and local law enforcement and juvenile justice entities. However, we continue to believe that an LEA is the entity best positioned to take the lead in developing and implementing a comprehensive set of strategies and activities that significantly improves the school environment and climate. Community-based organizations are often well suited to implement effective prevention programs for students and families and can be an important partner in a SS/HS project, but these organizations may lack the level of control and oversight of school settings needed to implement effective, comprehensive school-based projects.

Change: None.

Comment: Two commenters expressed concern about the elimination of the previous SS/HS eligibility requirement that barred former SS/HS grant recipients from applying for a second SS/HS grant. One commenter felt that this change might reduce the number of awards made to small, rural districts. Specifically, the commenter was concerned that small, rural districts may be unable to compete with larger LEAs that frequently have dedicated resources for grant writing.

The other commenter asserted that the advantages realized by receiving a SS/HS grant, including the ability to leverage additional resources, are so significant that previous recipients should not be eligible to compete for another SS/HS grant.

Discussion: In developing the notice of proposed priorities, requirements, selection criteria, and definitions, we carefully considered whether or not to eliminate the restriction on eligibility for previous SS/HS grantees. The proposal to eliminate the restriction was based in significant part on the unique needs of LEAs with very large enrollments or States and territories whose governance structure includes only a single LEA. In these cases, SS/HS funds from a single grant, though significant, were not sufficient to reach all schools and sub-regions in the LEA. We believe that eliminating this restriction provides an opportunity for an LEA to compete for additional support to realize its goal of creating a safer learning environment for all of its schools or sub-regions. To ensure that former SS/HS grant recipients do not receive new SS/HS awards to sustain their original projects, we proposed to require that former SS/HS grant recipients submit a program-specific assurance stating that if awarded, the project will not serve those schools or sub-regions that were served by the first SS/HS project.

Additionally, we recognize that all previous grantees, not just large LEAs with dedicated grant-writing personnel, have experience with the initiative that may assist them in preparing competitive grant applications. In an effort to level the playing field and balance the interests of small, large, rural, and urban LEAs, as well as those of prior SS/HS grant recipients and of LEAs that have not yet received a SS/HS grant, we plan to award a preference for LEAs that have not received a SS/HS grant. Our experience with other grant competitions suggests that this strategy generally helps novice applicants compete effectively with entities that have previously received grants and implemented discretionary grant projects.

Change: None.

Comment: One commenter requested that an educational service agency (ESA) that has previously received a SS/HS grant on behalf of several of its member districts be able to apply on behalf of other LEAs that were not part of the previous SS/HS project. This commenter also requested that the ESA be able to implement with the new LEAs the same activities previously implemented as part of a prior SS/HS grant received by the ESA. Finally, the commenter requested that ESAs that have previously received a SS/HS grant and are submitting a new application on behalf of LEAs not served by the prior grant be considered new applicants under Priority 2.

Discussion: The notice of proposed priorities, requirements, selection criteria, and definitions did not propose to continue the prohibition on an LEA receiving a second SS/HS grant that was established in the notice of final priorities for the program published in the Federal Register on May 28, 2004 (69 FR 30756). Instead, through Priority 2, we proposed to establish a priority for LEAs that have not previously received a SS/HS grant at any time. This preference is designed to help level the playing field for applicants that have not previously received SS/HS funding given that prior recipients will now be allowed to compete for funding.

We are not restricting the ability of an ESA to propose programs used in a previous SS/HS project, provided that different LEAs are being served under the new SS/HS project.

Priority 1 does not address the issue of whether or not an applicant is a prior recipient or a new applicant for SS/HS funding. Priority 2 provides a priority for new applicants, but ESAs that have previously received a SS/HS grant would not be considered new applicants, even if their applications were designed to serve LEAs that had not received services under a previous SS/HS project. The priority is designed to help applicants that have not received SS/HS funds compete effectively with prior recipients that have had the advantage of designing and implementing a successful SS/HS project. Permitting an ESA with a prior SS/HS grant award to be eligible under this priority (even when it would implement activities in new schools or LEAs) would run counter to our objective in establishing Priority 2 because those ESAs have used a previous grant to gain experience that they can build upon in serving new schools and LEAs.

Change: None.

Comment: One commenter suggested that we change the application requirements and definitions to require that applicants for SS/HS funds demonstrate the participation in their projects of local agencies working to prevent substance abuse. Specifically, the commenter recommended that the application requirement for a preliminary memorandum of agreement (MOA) be modified to require the addition of a local substance abuse prevention agency as a partner or, alternatively, that the local behavioral health authority be included if a single authority is responsible for both mental health and substance abuse services. The commenter felt that requiring the inclusion of such agencies would enhance efforts to prevent youth violence and promote healthy youth development.

The commenter also suggested that the contents of the required final MOA be expanded to include details about the procedures to be used for referral, treatment, and follow-up for students receiving substance abuse services. Additionally, the commenter proposed definitions for the terms “local substance abuse prevention agency” and/or “behavioral health authority,” and requested that the Department apply these definitions to the SS/HS program.

Discussion: As stated by the commenter, local substance abuse prevention agencies and/or behavioral health authorities exist in many localities, but this is not true for every community and every State. Some States and many localities do not have independent substance abuse prevention agencies but combine responsibilities for substance abuse prevention, intervention, and treatment with behavioral health, mental health, public health, or even child welfare. Because of the variation in State and local government structures, we would not easily be able to determine if local agencies for substance abuse prevention exist in each applicant's jurisdiction and, thus, we would not be able to make an accurate and efficient determination regarding an applicant's eligibility.

Applicants are required to address, in their preliminary and final MOAs among the required SS/HS partners, as well as in their responses to the selection criteria, how multiple and diverse sectors of the community have been and will continue to be involved in the design, implementation, and continuous improvement of the project. Those LEAs situated in localities with a separate local substance abuse prevention agency could include the separate local substance abuse prevention agency in their Comprehensive Plan and as a SS/HS partner and describe the participation of that agency in their application. The final MOA from a partnership that includes a separate local substance abuse prevention agency could also include details about the proposed procedures to be used for referral, treatment, and follow-up for students receiving substance abuse services to be provided by or coordinated by the local substance abuse prevention agency.

Change: None.

Comment: None.

Discussion: The notice of proposed priorities, requirements, selection criteria, and definitions proposed that previous SS/HS grant recipients be allowed to compete for additional SS/HS funding provided that the applicants submit a program-specific assurance with their grant applications. In this assurance, an applicant would state that the scope of work contained in the grant application is new and that funding, if awarded, will not be used to sustain activities, programs, curricula, or services provided to a population during the first SS/HS grant.

Although we did not receive any comments about the proposed assurance, we were contacted by some LEAs that have previously received a SS/HS grant award, seeking clarification about the proposed assurance. Based on these contacts, we believe that the language for the assurance proposed in the notice of proposed priorities, requirements, selection criteria, and definitions may not have clearly conveyed our intent.

Our rationale for eliminating the restriction on eligibility that prohibited recipients of a SS/HS grant from applying for a subsequent grant is that, despite the size of SS/HS grants, some very large LEAs were not eligible to apply for sufficient funding to design and implement a comprehensive SS/HS plan district-wide and that such LEAs would not have been able to include all of their schools or sub-regions in their first SS/HS projects. Our intent was to provide an opportunity for these LEAs to implement activities, curricula, programs, and services to those schools or sub-regions that were not served by the first SS/HS project. We did not intend to limit the activities, programs, curricula, or services that can be included in a new application for schools not previously served, nor did we intend this to provide an opportunity for prior recipients to “redo” a SS/HS project in the schools and sub-regions that were served by the first SS/HS project.

We expect current and former SS/HS grantees to use the resources provided by the SS/HS initiative (direct grant funds as well as technical assistance resources) and their strong community partnerships to create the system and institutional changes needed to sustain SS/HS activities, curricula programs, and services after Federal funding has ended.

Change: We have modified the text of the assurance to clarify our intent in requiring this assurance. LEAs that have received funds or services (or for those LEA consortia that include a member LEA that has received funds or services) under the SS/HS program must submit a program-specific assurance as part of the SS/HS application. That assurance must state that, if awarded, the project will not serve those schools or sub-regions that were served by the first SS/HS project.

Note: This notice does not solicit applications. In any year in which we choose to use this priority, we invite applications through a notice in the Federal Register. When inviting applications we designate a priority as absolute, competitive preference, or invitational. The effect of each type of priority follows:

Absolute priority: Under an absolute priority we consider only applications that meet the priority (34 CFR 75.105(c)(3)).

Competitive preference priority: Under a competitive preference priority we give competitive preference to an application by either (1) Awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1—Comprehensive Plan

This priority supports projects of LEAs proposing to implement an integrated, comprehensive community-wide plan designed to create safe, respectful, and drug-free school environments and promote prosocial skills and healthy childhood development. Plans must focus activities, curricula, programs, and services in a manner that responds to the community's existing needs, gaps, or weaknesses in areas related to the five comprehensive plan elements:

• Element One—Safe School Environments and Violence Prevention Activities.

• Element Two—Alcohol, Tobacco, and Other Drug Prevention Activities.

• Element Three—Student Behavioral, Social, and Emotional Supports.

• Element Four—Mental Health Services.

• Element Five—Early Childhood Social and Emotional Learning Programs.

Priority 2—LEAs That Have Not Previously Received a Grant or Services Under the Safe Schools/Healthy Students Initiative

Under this priority, we give priority to applications from LEAs that have not yet received a grant under this program as an applicant or as a member of a consortium. In order for a consortium application to be eligible under this priority, no member of the LEA consortium may have received a grant or services under this program as an applicant or as a member of a consortium applicant.

Application and Eligibility Requirements

The applicant must meet the following requirements:

1. Program-Specific Assurances for Former SS/HS Grant Recipients. For those LEAs that have previously received funds or services (or for those LEA consortia that include a member LEA that has received funds or services) under the SS/HS program, a program-specific assurance must be submitted as part of the SS/HS application. All participating LEAs in a proposed consortium project must sign this program-specific assurance. The assurance must state that, if awarded, the project will not serve those schools or sub-regions served by the first SS/HS project. Applications from prior SS/HS grant recipients (or from a consortium that includes an LEA that has previously received SS/HS funds or services) that do not include the program-specific assurance will be rejected and not considered for funding.

2. Funding Limits for Applicants. An applicant's request for funding must not exceed the following maximum amounts, based on student enrollment data, for any of the project's four 12-month budget periods: $2,250,000 for an LEA with at least 35,000 students; $1,500,000 for an LEA with at least 5,000 students but fewer than 35,000 students; and $750,000 for an LEA with fewer than 5,000 students. In applying these maximums, applicants must use the most recent student enrollment data from the National Center for Education Statistics' (NCES) Common Core of Data (CCD) as posted on the NCES Web site. In the case of consortium applicants, the maximum funding request is based on the combined student enrollment data for the participating LEAs. Department of the Interior, Bureau of Indian Education-funded schools that are not included in the NCES database and request grant funds that exceed $750,000 for any of the project's four 12-month budget periods must provide documentation of enrollment data.

3. Preliminary MOA. Each applicant must include in its application a preliminary MOA that is signed by the authorized representatives of the LEA, the local juvenile justice agency, the local law enforcement agency, and the local public mental health authority—the required SS/HS partners. For consortium applicants, the preliminary MOA must be signed by the authorized representatives of each member LEA and by the authorized representatives of each corresponding required SS/HS partner for each member LEA. Additionally, the preliminary MOA must:

(a) Include information that supports the selection of each identified SS/HS required partner that has signed the preliminary MOA;

(b) Demonstrate the support and commitment of the required SS/HS partners to implement and sustain the project if funded;

(c) Name a core management team of senior representatives from the required partners, and clearly define how each member of the team will support the project director in the day-to-day management of the project;

(d) Describe how multiple and diverse sectors of the community, including parents and students, have been and will continue to be involved in the design, implementation, and continuous improvement of the project; and

(e) Include, as an attachment, a logic model (a graphic representation of the project in chart format) that identifies needs or gaps and connects those needs or gaps with corresponding project goals, objectives, activities, partners' roles, outcomes, and outcome measures for each of the SS/HS elements.

Applications that do not include the preliminary MOA signed by the authorized representatives of each of the required SS/HS partners (the LEA, the local juvenile justice agency, the local law enforcement agency, and the local public mental health authority) and the logic model will be rejected and not considered for funding.

4. Final MOA. If funded, grant recipients must complete a final MOA. The final MOA must be signed by the authorized representatives of the LEA, the local juvenile justice agency, the local law enforcement agency, and the local public mental health authority—the required SS/HS partners. For consortium applicants, the final MOA must be signed by the authorized representative for each member LEA and the authorized representative for each of the corresponding required SS/HS partners for each member LEA. The final MOA must also include the following:

(a) Information that supports the selection of each identified SS/HS required partner that has signed the final MOA;

(b) Any needed revisions to the statement of support and commitment for each of the required SS/HS partners to implement and sustain the project;

(c) A final roster of the core management team of senior representatives from the required SS/HS partners that clearly defines how each member of the team will support the project director in the day-to-day management of the project;

(d) Any needed revisions to the process for involving multiple and diverse sectors of the community in the implementation and continuous improvement of the project;

(e) A final logic model that identifies needs or gaps and connects those needs or gaps with corresponding project goals, objectives, activities, partners' roles, outcomes, and outcome measures for each of the SS/HS elements;

(f) A description of each partner's financial responsibility for the services that it will provide, along with the conditions and terms of responsibility for those services, including the quality, accountability, and coordination of services as they relate to achieving the goals, objectives, and outcomes of the project;

(g) A description of the procedures to be used for referral, treatment, and follow-up for children and adolescents in need of mental health services and an assurance that the local public mental health authority will provide administrative control and/or oversight of the delivery of mental health services; and

(h) Any other necessary revisions to information furnished in the preliminary MOA.

Funding Restrictions: The funding restrictions for this program are:

1. No less than seven percent of a grantee's budget for each year must be used to support costs associated with local evaluation activities.

2. No more than 10 percent of the total budget for each project year may be used to support costs associated with security equipment, security personnel, and minor remodeling of school facilities to improve school safety.

Selection Criteria

The selection criteria for this program are:

1. Community Assessment

(a) The extent to which the applicant describes individual, family, school, and community risk and protective factors that relate to the five SS/HS elements and that will be addressed by the project.

(b) The extent to which the applicant describes student problem behaviors as they relate to the five SS/HS elements and how they will be addressed by the project.

(c) The extent to which the applicant identifies, in the project narrative and the logic model, needs and gaps related to the five SS/HS elements that are not addressed by current services and programs.

2. Goals and Objectives

(a) The extent to which the applicant's project narrative and logic model specify one or more goals for each of the five SS/HS elements and to which the goals are clearly linked to the needs and gaps identified in the community assessment.

(b) The extent to which the objectives identified in the applicant's project narrative and logic model are measurable and linked to each of the stated goals.

3. Project Design

(a) The extent to which the applicant's project narrative and logic model propose activities, curricula, programs, and services that will address each of the goals and objectives of the proposed project.

(b) The extent to which activities, curricula, programs, and services proposed by the applicant are evidence-based or reflect current research and effective practice, and are appropriate for the age and developmental levels, gender, and cultural diversity of the target population.

4. Evaluation

(a) The extent to which the applicant's project narrative describes a plan for regularly monitoring program implementation and identifies process measures that the applicant will use to assess the quality and completeness of the activities planned under the grant.

(b) The extent to which the applicant's project narrative and logic model identify outcomes that are clearly linked to the identified objectives and activities for the project, and specify how outcomes will be measured.

5. Management

(a) The extent to which the applicant describes a management plan adequate to achieve the objectives of the proposed program on time and within budget, including clearly defined responsibilities of partners, staff, and contracted service providers, and milestones for accomplishing project tasks.

(b) The extent to which the applicant provides, in the project narrative and the preliminary MOA, information about any preexisting partnership involving the required SS/HS partners and about accomplishments of that partnership that are directly related to the five SS/HS elements.

(c) The extent to which the applicant describes, in the project narrative and in the preliminary MOA, a core management team that is appropriate and adequate to achieve the project's objectives and support the project director in day-to-day management of the project.

(d) The extent to which the applicant describes, in the project narrative and in the preliminary MOA, how multiple and diverse sectors of the community, including students and families, have been and will continue to be involved in the design, implementation, and continuous improvement of the project.

(e) The extent to which the applicant describes a plan to develop data systems that will be used to support decision making processes established for the grant, including the use of technology.

6. Budget

The extent to which the proposed budget and budget narrative correspond to the project design and are reasonable in relation to the numbers of students and staff and to the identified objectives to be achieved.

Additional Selection Factors

The following factors may be considered in selecting an application for an award: (1) Geographic distribution; and (2) diversity of activities addressed by the projects.

Definitions

1. Authorized representative means— the official within an organization with the legal authority to give assurances, make commitments, enter into contracts, and execute such documents on behalf of the organization as may be required by the U.S. Department of Education (the Department), including certification that commitments made on grant proposals will be honored and that the applicant agrees to comply with the Department's regulations, guidelines, and policies.

2. Local juvenile justice agency means—an agency or entity at the local level that is officially recognized by State or local government to address juvenile justice issues in the communities to be served by the grant. Examples of juvenile justice agencies include: juvenile justice task forces; juvenile justice centers; juvenile or family courts; juvenile probation agencies; and juvenile corrections agencies.

3. Local law enforcement agency means—the agency (or agencies) that has law enforcement authority for the LEA. Examples of local law enforcement agencies include: municipal, county, and State police; tribal police and councils; and sheriffs' departments.

4. Local public mental health authority means—the entity legally constituted (directly or through contract with the State mental health authority) to provide administrative control or oversight of mental health services delivery within the community.

Executive Order 12866

This notice of final priorities, requirements, selection criteria, and definitions has been reviewed in accordance with Executive Order 12866. Under the terms of the order, we have assessed the potential costs and benefits of this regulatory action.

The potential costs associated with the notice of final priorities, requirements, selection criteria, and definitions are those resulting from statutory requirements and those we have determined as necessary for administering this program effectively and efficiently.

In assessing the potential costs and benefits—both quantitative and qualitative—of this notice of final priorities, requirements, selection criteria, and definitions, we have determined that the benefits of this regulatory action justify the costs.

We have also determined that this regulatory action does not unduly interfere with State, local, and tribal governments in the exercise of their governmental functions.

We fully discussed the costs and benefits in the notice of proposed priorities, requirements, selection criteria, and definitions.

Paperwork Reduction Act of 1995

Certain sections of the proposed priorities, requirements, and selection criteria for the SS/HS grant program contain information collection requirements already approved by the Office of Management and Budget (OMB) under OMB control number 1865-0004 (1890-0001). The Department does not believe the proposed priorities, requirements, and selection criteria will change the current approved burden for 1865-0004 (1890-0001). However, as required by the PRA, the Department has submitted 1865-0004 (1890-0001) to OMB for a revised information collection clearance.

The current absolute priority for the SS/HS grant program includes six elements that an applicant's comprehensive plan must address. This notice proposes to reduce the elements from six to five. While this notice establishes two new requirements, we have eliminated the requirement that applicants submit a MOA for mental health services. Also, we have established fewer program-specific selection criteria. The current approved information collection contains seven selection criteria with a total of 25 sub-criteria to which applicants must respond. In this notice, we have established six selection criteria, with only 15 sub-criteria.

The proposed changes to the information collection do not change the estimated 26 hours needed to review the instructions, search existing data sources, gather needed data, prepare and review responses. The elimination of one of the elements in the absolute priority and the elimination of 10 sub-criteria provide more than enough time for applicants to respond to new requirements (i.e., signatures on the program-specific assurance and completing a logic model).

In this notice, we have established a priority for LEAs that have not previously received a grant or services under the SS/HS Initiative. To receive priority, applicants will be required to submit a program-specific assurance. This new information collection requirement is primarily cosmetic, as the application will include a form requiring the authorized representative's signature for the applicant; for consortium applicants it would require the signatures from the authorized representative from all participating LEAs, but again, the elimination of the sub-criteria more than offsets this.

The current approved information collection requires applicants to submit two different MOAs with the application. We are requiring applicants to submit a single preliminary MOA with the application and a final MOA submitted post award. The proposed collection does require submission of a logic model, but this requirement adds little burden as the applicant need only present a subset of the narrative information in a chart format.

If you want to comment on the proposed information collection requirements, send your comments to the Office of Information and Regulatory Affairs, OMB, Attention: Desk Officer for U.S. Department of Education by e-mail to OIRA_DOCKET@omb.eop.gov or by fax to (202) 395-6974. You may also send a copy of these comments to the Department contact named in the addresses section of this notice.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text at the following sites: http://www.ed.gov/programs/dvpsafeschools/applicant.html. http://www.sshs.samhsa.gov.

Note: The official version of this document is the document published in the Federal Register. Free Internet access to the official edition of the Federal Register and the Code of Federal Regulations is available on GPO Access at: http://www.gpoaccess.gov/nara/index.html.

(Catalog of Federal Domestic Assistance Number 84.184L Safe Schools/Healthy Students Program.)

Program Authority: Safe and Drug-Free Schools and Communities Act (20 U.S.C. 7131); Public Health Service Act (42 U.S.C. 290aa); and Juvenile Justice and Delinquency Prevention Act (42 U.S.C. 5614(b)(4)(e) and 5781 et seq.).

Dated: May 4, 2007.
Deborah A. Price,
Assistant Deputy Secretary for Safe and Drug-Free Schools.

[FR Doc. E7-9043 Filed 5-9-07; 8:45 am]

BILLING CODE 4000-01-P